DEPARTMENT OF THE INTERIOR

Bureau of Land Management

[NV-050-1430-ER; N-62861; 7-08807]

Notice of Intent To Amend the Las Vegas Resource Management Plan To Relocate a Utility Corridor; Nevada

AGENCY: Bureau of Land Management, Interior.

ACTION: Notice of intent.

SUMMARY: The Bureau of Land Management (BLM) proposes to amend the Las Vegas Resource Management Plan (RMP) to allow for the relocation of a section of a BLM utility corridor, and to prepare an environmental assessment (EA), pursuant to Section 102 of the National Environmental Policy Act of 1969 (NEPA) to analyze the effects of that action. The BLM proposes to relocate an 11.4-mile length of the half-mile wide BLM Utility Corridor that currently extends across the southern portion of Indian Springs in Clark County, NV. The Corridor as designated overlaps private lands. The amendment would relocate the Corridor further south behind Grandpa Mountain to avoid the private lands.

DATES: The scoping comment period will commence with the publication of this notice and will end 30 days after its publication. Comments should be submitted in writing to the address below and will be accepted throughout the scoping period. Any scoping meetings will be announced 15 days in advance through the local news media, newsletters, and the BLM Web site at http://www.nv.blm.gov/vegas/default.htm.

ADDRESSES: Please mail written comments to the Bureau of Land Management, Las Vegas Field Office, 4701 North Torrey Pines Drive, Las Vegas, NV, 89130-2301, (fax (702) 515-5023) attention Mark R. Chatterton.

FOR FURTHER INFORMATION CONTACT: Mark R. Chatterton at the Las Vegas Field Office (see address above), telephone (702) 515-5049; e-mail Mark_Chatterton@nv.blm.gov.

SUPPLEMENTARY INFORMATION: The Las Vegas RMP was approved on October 5, 1998. The BLM Utility Corridor in the vicinity of Indian Springs (see Map 2-4 of Volume II of the Las Vegas RMP) was established along an existing power line. The existing BLM Utility Corridor is approximately 2,640 feet wide in the vicinity of Indian Springs. This half-mile wide utility corridor extends northwest from T. 16 S., R. 57 E., sec. 33, M.D.M. along U.S. Highway 95 to the community of Indian Springs where the corridor diverges south around Indian Springs. Approximately one-quarter-mile of the Corridor width extends into private property. This RMP amendment is intended to relocate 11.4 miles of the half-mile wide corridor, centered on Indian Springs, further south behind Grandpa Mountain to avoid abutting any private lands. Beyond Indian Springs, the Corridor continues west parallel to U.S. Highway 95 offset approximately 3,960 feet to the south.

The purpose of the public scoping process is to determine relevant issues that will influence the scope of the environmental analysis, including concerns, or proposed alternatives that should be considered. Please note that public comments and information submitted, including names, addresses, and email addresses of the respondents will be available for public review at the Las Vegas Field Office during regular business hours from 7:30 a.m. to 4:15 p.m., Monday through Friday, except holidays. Before including your address, phone number, e-mail address, or other personal identifying information in your comments, you should be aware that your entire comment—including your personal identifying information—may be publicly available at any time. While you can ask us in your comment to withhold your personal identifying information from public review, we cannot guarantee that we be able to do so.

BLM will notify the public through local news media and the BLM website when the draft plan amendment and the EA will be available for public comment. Preliminary issues and concerns have been identified by BLM personnel, other agencies, and individuals. Disciplines involved in the planning process will include specialists with expertise in wildlife management, minerals and geology, outdoor recreation, archaeology, lands and realty, and botany. The alternative to the proposed action will be the No Action Alternative (keeping the existing BLM Utility Corridor).

Planning documents, environmental information, and other associated information are available for public review at the Las Vegas Field Office during regular business hours from 7:30 a.m. to 4:15 p.m., Monday through Friday, except holidays.

The authority for the Federal Register publication of this Notice of Intent is found at, 43 CFR 1610.2(c).

Dated: April 3, 2007.
Juan Palma,
Field Manager.

[FR Doc. E7-10163 Filed 5-25-07; 8:45 am]

BILLING CODE 4310-HC-P